DEPARTMENT OF ENERGY

Office of Energy Efficiency and Renewable Energy

10 CFR Part 431

[Docket No. EE-2006-STD-0126]

RIN: 1904-AB59

Energy Conservation Standards for Commercial Ice-Cream Freezers; Self-Contained Commercial Refrigerators, Freezers, and Refrigerator-Freezers Without Doors; and Remote Condensing Commercial Refrigerators, Freezers, and Refrigerator-Freezers: Public Meeting and Availability of the Framework Document

AGENCY: Office of Energy Efficiency and Renewable Energy, Department of Energy.

ACTION: Notice of public meeting and availability of the Framework Document.

SUMMARY: The Department of Energy (DOE or Department) will hold an informal public meeting to present its proposed methodologies for conducting this rulemaking, discuss issues relevant to this rulemaking proceeding, and initiate stakeholder interaction in this rulemaking proceeding. The Department is also interested in information that will assist it in establishing energy conservation standards for ice cream freezers; self-contained commercial refrigerators, freezers, and refrigerator-freezers without doors; and remote-condensing commercial refrigerators, freezers, and refrigerator-freezers. (These types of equipment are referred to collectively hereafter as “commercial refrigeration equipment.”) The Department encourages written comments on these subjects. This effort is the result of the directive in the Energy Policy Act of 2005 to DOE to establish energy conservation standards for such equipment by January 1, 2009. To inform stakeholders and facilitate this process, DOE has prepared a Framework Document, a draft of which is available at http://www.eere.energy.gov/buildings/appliance_standards.

DATES: The Department will hold a public meeting on Tuesday, May 16, 2006, from 9 a.m. to 5 p.m. EDT in Washington, DC. Any person requesting to speak at the public meeting should submit a request to speak before 4 p.m., Tuesday, May 2, 2006. The Department must receive a signed original and an electronic copy of statements to be given at the public meeting before 4 p.m., Tuesday, May 2, 2006. Written comments on the Framework Document are welcome and encouraged following the public meeting and should be submitted by Tuesday, May 30, 2006.

ADDRESSES: The public meeting will be held at the U.S. Department of Energy, Forrestal Building, Room 1E-245, 1000 Independence Avenue, SW., Washington, DC 20585-0121. (Please note that foreign nationals participating in the public meeting are subject to advance security screening procedures. If a foreign national wishes to participate in the public meeting, please inform DOE of this fact as soon as possible by contacting Ms. Brenda Edwards-Jones at (202) 586-2945 so that the necessary procedures can be completed.)

Stakeholders may submit comments, identified by docket number EE-2006-STD-0126 and/or RIN number 1904-AB59, by any of the following methods:

• Federal eRulemaking Portal: http://www.regulations.gov. Follow the instructions for submitting comments.

• E-mail: commercialrefrigeration.rulemaking@ee.doe.gov. Include EE-2006-STD-0126 and/or RIN 1904-AB59 in the subject line of the message.

• Mail: Ms. Brenda Edwards-Jones, U.S. Department of Energy, Building Technologies Program, Mailstop EE-2J, Framework Document for Commercial Refrigeration Equipment, EE-2006-STD-0126 and/or RIN 1904-AB59, 1000 Independence Avenue, SW., Washington, DC 20585-0121. Telephone: (202) 586-2945. Please submit one signed paper original.

• Hand Delivery/Courier: Ms. Brenda Edwards-Jones, U.S. Department of Energy, Building Technologies Program, Room 1J-018, 1000 Independence Avenue, SW., Washington, DC 20585-0121.

Instructions: All submissions received must include the agency name and docket number or Regulatory Information Number (RIN) for this rulemaking.

Docket: For access to the docket to read background documents or comments received, go to the U.S. Department of Energy, Forrestal Building, Room 1J-018 (Resource Room of the Building Technologies Program), 1000 Independence Avenue, SW., Washington, DC, (202) 586-9127, between 9 a.m. and 4 p.m., Monday through Friday, except Federal holidays. Please call Ms. Brenda Edwards-Jones at the above telephone number for additional information regarding visiting the Resource Room. Please note that the Department's Freedom of Information Reading Room (formerly Room 1E-190 at the Forrestal Building) is no longer housing rulemaking materials.

FOR FURTHER INFORMATION CONTACT: James Raba, U.S. Department of Energy, Office of Energy Efficiency and Renewable Energy, Building Technologies, EE-2J, 1000 Independence Avenue, SW., Washington, DC 20585-0121, (202) 586-8654. E-mail: Jim.Raba@ee.doe.gov. Francine Pinto, U.S. Department of Energy, Office of General Counsel, GC-72, 1000 Independence Avenue, SW., Washington, DC 20585-0121, (202) 586-9507. E-mail: Francine.Pinto@hq.doe.gov.

SUPPLEMENTARY INFORMATION: Part B of Title III of the Energy Policy and Conservation Act (EPCA), 42 U.S.C. 6291 et seq., established an energy conservation program for major household appliances. The National Energy Conservation Policy Act (NECPA), 42 U.S.C. 6311 et seq., amended EPCA to add Part C of Title III, which established an energy conservation program for certain industrial equipment. The Energy Policy Act of 1992 (EPACT 1992), Public Law 102-486, included amendments to EPCA that expanded Title III to include certain commercial equipment. The recent Energy Policy Act of 2005 (EPACT 2005), Public Law 109-58, updated several existing standards and test procedures, prescribed definitions, standards, and test procedures for certain new consumer products and commercial equipment, and mandated that the Secretary of Energy (the Secretary) commence rulemakings to develop test procedures and standards for certain other new consumer products and commercial equipment.

In particular, section 136(c) of EPACT 2005 amends section 342 of EPCA by adding new subsection 342(c)(4)(A), 42 U.S.C. 6313(c)(4)(A), which directs the Secretary to issue by rule, no later than January 1, 2009, energy conservation standards for the following equipment manufactured on or after January 1, 2012: ice-cream freezers; self-contained commercial refrigerators, freezers, and refrigerator-freezers without doors; and remote-condensing commercial refrigerators, freezers, and refrigerator-freezers. These are the types of equipment covered under today's notice. In addition, section 136(f) of EPACT 2005 directs the Secretary to issue test procedures and appropriate rating temperatures for the above commercial refrigeration equipment. (42 U.S.C. 6314(a)(6)(A)-(D)) The Department intends to propose such rating temperatures and test procedures under a separate rulemaking.

To begin this rulemaking, the Department prepared a Framework Document to explain the issues, analyses, and process it is considering for the development of energy conservation standards for the above commercial refrigeration equipment. The main focus of the public meeting will be to discuss the analyses and issues contained in various sections of the Framework Document. For each item listed, the Department will make a presentation with discussion to follow. In addition, the Department will also make a brief presentation on the rulemaking process for commercial refrigeration equipment. The Department encourages those who wish to participate in the public meeting to obtain the Framework Document and be prepared to discuss its contents. A copy of the draft Framework Document is available at http://www.eere.energy.gov/buildings/appliance_standards. However, public meeting participants need not limit their discussion to the topics in the Framework Document. The Department is also interested in receiving comments concerning other relevant issues that participants believe would affect energy conservation standards for commercial refrigeration equipment. The Department also welcomes all interested parties, whether or not they participate in the public meeting, to submit in writing by Tuesday, May 30, 2006, comments and information on the matters addressed in the Framework Document and on other matters relevant to consideration of standards for commercial refrigeration equipment.

The public meeting will be conducted in an informal, conference style. During the public meeting, there shall be no discussion of proprietary information, costs or prices, market shares, or other commercial matters regulated by the U.S. antitrust laws.

After the public meeting and the expiration of the period for submitting written statements, the Department will begin collecting data, conducting the analyses as discussed in the Framework Document and reviewing the comments received.

Anyone who would like to participate in the public meeting, receive meeting materials, or be added to the DOE mailing list to receive future notices and information regarding commercial refrigeration equipment, should contact Ms. Brenda Edwards-Jones at (202) 586-2945.

Issued in Washington, DC, on April 19, 2006.
Douglas L. Faulkner,
Principal Deputy Assistant Secretary, Energy Efficiency and Renewable Energy.

[FR Doc. E6-6206 Filed 4-24-06; 8:45 am]

BILLING CODE 6450-01-P